ENVIRONMENTAL PROTECTION AGENCY

[EPA-HQ-OECA-2011-0234; FRL-10101-01-OMS]

Information Collection Request Submitted to OMB for Review and Approval; Comment Request; NESHAP for Petroleum Refineries (Renewal)

AGENCY: Environmental Protection Agency (EPA).

ACTION: Notice.

SUMMARY: The Environmental Protection Agency has submitted an information collection request (ICR), NESHAP for Petroleum Refineries (EPA ICR Number 1692.13, OMB Control Number 2060-0340), to the Office of Management and Budget (OMB) for review and approval in accordance with the Paperwork Reduction Act. This is a proposed extension of the ICR, which is currently approved through July 31, 2021. Public comments were previously requested via the Federal Register on May 12, 2020 during a 60-day comment period. This notice allows for an additional 30 days for public comments. A fuller description of the ICR is given below, including its estimated burden and cost to the public. An agency may neither conduct nor sponsor and a person is not required to respond to a collection of information unless it displays a currently valid OMB control number.

DATES: Additional comments may be submitted on or before August 29, 2022.

ADDRESSES: Submit your comments, referencing Docket ID Number EPA-HQ-OECA-2011-0234, online using www.regulations.gov (our preferred method), or by email to docket.oeca@epa.gov, or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of affected facilities at petroleum refineries are required to comply with reporting and record keeping requirements for the General Provisions (40 CFR part 63, subpart A), as well as the specific requirements at 40 CFR part 63, subpart CC. This includes submitting initial notifications, performance tests and periodic reports and results, and maintaining records. These reports are used by EPA to determine compliance with these standards.

Form Numbers: None.

Respondents/affected entities: Petroleum refineries that are major sources of hazardous air pollutants (HAP).

Respondent's obligation to respond: Mandatory (40 CFR part 63, subpart CC).

Estimated number of respondents: 142 (total).

Frequency of response: Initially, quarterly, semiannually, and annually.

Total estimated burden: 614,000 hours (per year). Burden is defined at 5 CFR 1320.3(b).

Total estimated cost: $98,000,000 (per year), which includes $32,600,000 in annualized capital/startup and/or operation & maintenance costs.

Changes in the Estimates:

This ICR incorporates the burden from both ICR 1692.10 and ICR 1692.12, which detail the additional burden to petroleum refineries from the December 1, 2015 (80 FR 75178) and November 18, 2018 (83 FR 60696) amendments to the rule, respectively. The 2015 rule amendments added new recordkeeping and reporting requirements for delayed coking unit vents, flares used as control devices, and fenceline monitoring, as well as additional requirements for storage vessels. The 2018 rule amendments revised the recordkeeping requirements for maintenance vents associated with equipment containing less than 72 lbs of VOC. This ICR accounts for the full burden of the current rule and reflects an increase in burden hours and responses.

This ICR, by in large, reflects the on-going burden and costs for existing facilities, with the exception of a small number of facilities with reconstructed units that must meet initial compliance requirements. The burden in this ICR accounts for implementation of the 2015 amendments, which have been in effect for more than three years. The previous ICR reflected those burdens and costs associated with the initial activities for subject facilities, such as purchasing monitoring equipment and establishing recordkeeping systems. As such, the capital/startup costs as calculated in section 6(b)(iii) in this ICR have decreased compared with the costs in the previous ICRs (ICR 1692.10 and ICR 1692.12). In the next three years, the ongoing O&M costs for affected existing facilities at refineries from the 2015 amendments have been adjusted to include the O&M costs for pressure relief valves to address API/APEM comments. In addition, this ICR also adjusts the estimated number of Group 1 storage vessels subject to requirements from 9 to 12 for each facility, per consideration of comments by API/APFM in a letter dated February 14, 2019 and confirmed through Agency analysis.

Courtney Kerwin,
Director, Regulatory Support Division.

[FR Doc. 2022-16300 Filed 7-28-22; 8:45 am]

BILLING CODE 6560-50-P